POSTAL SERVICE

39 CFR Part 20

International Product and Price Changes

AGENCY: Postal Service ™.

ACTION: Final rule.

SUMMARY: The Postal Service is revising Mailing Standards of the United States Postal Service, International Mail Manual (IMM®), to reflect the prices, product features, and classification changes to Competitive Services, as established by the Governors of the Postal Service.

DATES: Effective Date: January 2, 2011.

FOR FURTHER INFORMATION CONTACT: Rick Klutts at 813-877-0372.

SUPPLEMENTARY INFORMATION: This final rule describes the international price and classification changes and the corresponding mailing standards changes for the following Competitive Services:

• Global Express Guaranteed® (GXG®).

• Express Mail International® (EMI).

• Priority Mail International® (PMI).

• International Priority Airmail ™ (IPA®).

• International Surface Air Lift ® (ISAL®).

• Direct Sacks of Printed Matter to One Addressee (M-bags).

• International Extra Services:

○ International Postal Money Orders.

○ International Insurance for EMI and PMI service.

New prices are located on the Postal Explorer® Web site at http://pe.usps.com.

Global Express Guaranteed

Global Express Guaranteed (GXG) is an international expedited delivery service provided through an alliance with FedEx Express®

The price increase for retail GXG service averages 3.7 percent. The commercial base price for customers who prepare and pay for shipments online at USPS.com® or by using an authorized PC Postage® vendor remains 10 percent below the retail price.

In addition, we are making the following product features and classification changes:

Permit Imprint

To provide additional payment options for customers we are authorizing permit imprint as a new postage payment option for GXG service. To use this payment option, customers must use USPS®-produced Global Shipping Software (GSS) and pay for postage with a permit imprint through an advance deposit account. The commercial base price is automatically applied to each shipment but does not apply to any other charges or fees.

IBI Payment Method

We are eliminating the commercial base price for customers who pay for GXG shipments with information-based indicia (IBI) postage meters. The commercial base price will only apply for customers who pay with permit imprint (in conjunction with GSS or a functional equivalent), Click-N-Ship® service, or an authorized PC Postage vendor.

Express Mail International

Express Mail International (EMI) service provides reliable, high-speed service to over 190 countries with a money-back, date-certain delivery guarantee to select destinations.

The price increase for retail Express Mail International service averages 3.1 percent. The commercial base price for customers that prepare and pay for shipments via permit imprint when used in conjunction with GSS, online at USPS.com, or by using an authorized PC Postage vendor remains 8 percent below the retail price.

In addition, the following product features and classification changes are made:

Price Groups

We are expanding our price groups from 10 to 17. With this change, 9 of the 17 price groups will be assigned to a specific country. Previously, only two price groups were assigned to a specific country (Canada and Mexico). The other eight price groups will contain multiple countries. The seven new specific Express Mail International country price groups are:

Country | Price group
Great Britain & Northern Ireland | 11
Japan | 12
France | 13
China | 14
Brazil | 15
Germany | 16
Netherlands | 17

Flat Rate Envelope Pricing for Mexico

For the Express Mail International Flat Rate Envelopes, the Postal Service is combining Mexico with the “All Other Countries” price tier. Previously, Mexico was combined with the Canada price tier. Only Canada will now have a unique price for Express Mail International Flat Rate Envelopes.

Legal-Size Flat Rate Envelope

To provide additional mailing options for customers, we are introducing a new legal-size Express Mail International Flat Rate Envelope. The new larger envelope, which measures 15 inches by 9½ inches, enables customers to pay a flat rate to ship legal-size documents without folding them. The Express Mail Legal Flat Rate Envelope will be the same price as the regular Express Mail Flat Rate Envelope.

IBI Payment Method

We are eliminating the commercial base price for customers who pay for Express Mail International shipments with IBI postage meters or with an Express Mail Corporate Account. With this change, the commercial base price will only apply for customers who pay with permit imprint (in conjunction with GSS or an approved functional equivalent), Click-N-Ship service, or an authorized PC Postage vendor.

Express Mail Corporate Account Payment Method

We are also eliminating the Express Mail Corporate Account commercial base volume prices under current IMM 223.231. Customers who currently receive these discounts for outbound Express Mail International shipments may qualify for lower prices by using a permit imprint in conjunction with GSS under new IMM 223.222.

Return Receipt

Due to minimal demand, we will no longer offer return receipt service with Express Mail International service.

Priority Mail International

Priority Mail International (PMI) offers economical prices for reliable delivery of documents and merchandise, usually within 6 to 10 business days to many major destinations.

The price increase for retail Priority Mail International service averages 3.8 percent. The commercial base price for customers that prepare and pay for shipments via permit imprint when used in conjunction with GSS, online at http://www.usps.com, or by using an authorized PC Postage vendor remains 5 percent below the retail price.

In addition, with this final rule, the following product features and classification changes:

Price Groups

Priority Mail International price groups expand from 10 to 17 groups. With this change, 9 of the 17 price groups will be assigned to a specific country. Previously, only two price groups were assigned to a specific country (Canada and Mexico). The other eight price groups will contain multiple countries. The seven new specific country price groups are:

Country | Price group
Great Britain & Northern Ireland | 11
Japan | 12
France | 13
China | 14
Brazil | 15
Germany | 16
Netherlands | 17

Flat Rate Envelope Additions

We are introducing several new variations of the Priority Mail Flat Rate Envelope and expanding the items eligible for the Priority Mail Small Flat Rate Box Price. This includes a new legal-size Priority Mail International Flat Rate Envelope. The new larger envelope, which measures 15 inches by 9½ inches, enables customers to pay a flat rate to ship legal-size documents without folding them. The Priority Mail Legal Flat Rate Envelope will be the same price as the regular Priority Mail Flat Rate Envelope. These new variations of the Priority Mail Flat Rate Envelope and the Priority Mail Small Flat Rate box may not be insured but may be registered based on eligibility for the country destination.

Padded Flat Rate Envelope

A new padded Priority Mail International Flat Rate envelope is introduced which measures 12½ inches by 9½ inches and enables customers to ship lightweight merchandise at a flat rate. The Priority Mail Padded Flat Rate Envelope will be the same price as the regular Priority Mail Flat Rate Envelope. The Priority Mail Flat Rate Envelope may not be insured but may be registered based on country destination.

Incorporating Canada Into Insurance Tier

We are eliminating the separate price tier for Canada when optional insurance is purchased for Priority Mail International parcels. With this change, all insurance fees for Priority Mail International parcels will be the same. The current maximum insurance limit for Canada remains the same at $675.00.

IBI Payment Method

We are eliminating the commercial base price for customers who pay for Priority Mail International shipments with IBI postage meters. With this change, the commercial base price will only apply for customers who pay with permit imprint (in conjunction with GSS or an approved functional equivalent), Click-N-Ship service, or an authorized PC Postage vendor.

International Priority Airmail (IPA)

IPA service, including IPA M-bags, is a commercial service designed for business mailers for volume mailings of all First-Class Mail International postcards, letters, large envelopes (flats), and packages (small packets) weighing up to 4 pounds. The price increase for IPA service averages 3.3 percent. There is no price change for IPA M-bags.

International Surface Air Lift (ISAL)

ISAL service, including ISAL M-bags, is a commercial service, which provides expedited dispatch and transportation for mailers of volume mailings of all First-Class Mail International postcards, letters, large envelopes (flats), and packages (small packets) weighing up to 4 pounds. The price increase for ISAL service averages 6.4 percent. There is no price change for ISAL M-bags.

Direct Sacks of Printed Matter to One Addressee (M-Bags)

Airmail M-bags are direct sacks of printed matter sent to a single foreign addressee at a single address. The price increase for Airmail M-bags averages 5.8 percent.

International Extra Services

Depending on destination and mail type, customers may continue to add a variety of extra services to their outbound shipments.

For our competitive offerings, we revised the prices for the following international extra services: Express Mail International insurance, Priority Mail International insurance, and international postal money orders. The price increase for extra services averages 7.9 percent.

List of Subjects in 39 CFR Part 20

Foreign relations, International postal services.

Accordingly, 39 CFR Part 20 is amended as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

1 International Mail Services

* * * * *

150 Postage

* * * * *

152 Payment Methods

* * * * *

152.4 Permit Imprint

152.41 Conditions of Use

* * * This postage payment method may be used for postage and extra service fees for the following services:

[Redesignate current items 152.41a through e as new items b through f and insert new item a as follows:]

a. Global Express Guaranteed service prepared under 213.8.

* * * * *

152.44 Required Format

* * * * *

Exhibit 152.44

Indicia Formats

[Add two new sections, and two new examples each, with GXG and EMI as the top examples, that illustrate Global Express Guaranteed and Express Mail International permit imprints.]

* * * * *

2 Conditions for Mailing

210 Global Express Guaranteed

* * * * *

213 Prices and Postage Payment Methods

* * * * *

213.2 Postage Payment Methods—General

[Revise 213.2 as follows:]

Global Express Guaranteed shipments may be paid with postage stamps, postage validation imprinter (PVI) labels, postage meter stamps, information-based indicia (IBI), PC Postage service, or permit imprint under 213.8.

* * * * *

213.7 Online Postage Payment Method

213.71 Online Prices

[Revise 213.71 as follows:]

For selected destination countries, Global Express Guaranteed items receive a 10 percent discount below retail prices for the following online shipping methods:

a. Click-N-Ship service.

b. An authorized PC Postage vendor.

The commercial base price is automatically applied to each shipment. The discount applies only to the postage portion of the Global Express Guaranteed price. It does not apply to any other charges or fees, such as fees for Pickup on Demand service, insurance, or shipments made under a customized agreement.

* * * * *

[Redesignate current item 213.8 as new 213.9 and insert new 213.8 as follows:]

213.8 Permit Imprint

213.81 Permit Imprint—General

Payment for Global Express Guaranteed shipments paid with a permit imprint through an advance deposit account is allowed only when guidelines for commercial base prices (see 213.82) are followed. Postage paid with a permit imprint is subject to the general conditions in 152.4, and DMM 604 and 705.

213.82 Permit Imprint—Commercial Base Prices

Global Express Guaranteed commercial base postage prices are 10 percent below retail prices for all postage paid with a permit imprint. The commercial base price applies only to the postage portion of Global Express Guaranteed prices. In addition, customers must meet the following requirements:

a. Use USPS-produced Global Shipping Software (GSS). (To request information about GSS, send an e-mail to GSSHelp@usps.gov.)

b. Pay for postage with a permit imprint through an advance deposit account.

c. Meet manifesting and permit imprint requirements under IMM 152.4 and DMM 604 and the manifesting requirements under DMM 705.

Note: When using GSS, no extra services such as insurance are available.

* * * * *

220 Express Mail International

221 Description and Physical Characteristics

* * * * *

[Revise the heading and first sentence of 221.3 as follows:]

221.3 Express Mail International Flat Rate Envelopes

USPS-produced Flat Rate Envelopes are charged at a flat rate regardless of weight or destination. * * *

* * * * *

222 Eligibility

* * * * *

[Revise the heading and first sentence of 222.3 as follows:]

222.3 Express Mail International Flat Rate Envelopes

Mailers are eligible for the Flat Rate Envelope price only with the use of the USPS-produced Express Mail Flat Rate Envelope (Item EP13-F—12½ inches by 9½ inches), or the Express Mail Legal Flat Rate Envelope (Item EP13-L—15 inches by 9½ inches). * * *

* * * * *

222.7 Extra Services

* * * * *

[Delete section 222.72, Return Receipt Service, in its entirety.]

223 Prices and Postage Payment Methods

* * * * *

223.2 Postage Payment Methods

* * * * *

[Revise 223.22 as follows:]

223.22 Permit Imprint

223.221 Permit Imprint—General

Express Mail International shipments paid with a permit imprint through an advance deposit account are eligible for either the commercial base price under 223.222 or the retail price under 223.223. An Express Mail International shipment using a permit imprint does not qualify for postage-refund guarantees under 221.2 for Express Mail International With Guarantee service destination countries.

Customers capable of tendering at least 2,500 Express Mail International pieces or paying at least $50,000 in international postage on an annualized basis should contact the Postal Service to discuss customized agreements (see 297).

223.222 Permit Imprint—Commercial Base Prices

Express Mail International commercial base postage prices are 8 percent below retail prices for all postage paid with a permit imprint and using USPS-produced Global Shipping Software (GSS). The commercial base price applies only to the postage portion of Express Mail International prices. In addition, customers must meet the following requirements:

a. Use USPS-produced Global Shipping Software (GSS). (To request information about GSS, send an e-mail to GSSHelp@usps.gov.)

b. Pay for postage with a permit imprint through an advance deposit account.

c. Meet manifesting and permit imprint requirements under IMM 152.4 and DMM 604 and the manifesting requirements under DMM 705.

Note: When using GSS, no extra services such as insurance are available.

223.223 Permit Imprint—Retail Price

Express Mail International items paid with a permit imprint through an Express Mail corporate account (see 223.23) are charged the applicable retail price. In addition, customers must meet the permit imprint requirements under IMM 152.4 and DMM 604 and the manifesting requirements under DMM 705.

223.23 Express Mail Corporate Account

[Add the following text to 223.23 and delete 223.231 and 223.232 in their entirety.]

Mailers using an Express Mail Corporate Account under 223.21 must pay the applicable retail price for each mailpiece.

223.24 Online Postage Payment Method

223.241 Online Prices

[Revise 223.241 as follows:]

For selected destination countries, Express Mail International items receive an 8 percent discount below retail prices for the following online shipping methods:

a. Click-N-Ship service.

b. An authorized PC Postage vendor.

The commercial base price is automatically applied to each shipment. The discount applies only to the postage portion of the Express Mail International price. It does not apply to any other charges or fees, such as fees for Pickup on Demand service, insurance, or shipments made under a customized agreement.

* * * * *

230 Priority Mail International

* * * * *

232 Eligibility

* * * * *

[Renumber current items 232.2 through 232.7 as new 232.3 through 232.8 and insert new 232.2 as follows:]

232.2 Eligible Priority Mail International Flat Rate Envelopes and Small Flat Rate Boxes

Only the following items qualify for the Priority Mail Flat Rate Envelope or Small Flat Rate Box pricing:

Priority mail flat rate envelopes | Priority mail boxes—eligible for the priority mail small flat rate price
Priority Mail Flat Rate Envelope, 12½″ x 9½″, Item EP 14-F | Priority Mail Small Flat Rate Box, 8⅝″ x 5⅜″ x 1⅝″, Item O-SMALL-FRBX.
Priority Mail Gift Card Flat Rate Envelope, 10″ x 7″, Item EP 14-GT | Priority Mail DVD Box, 7 9/16″ x 5 7/16″ x 1⅜″, Item ODVDS.
Priority Mail Small Flat Rate Envelope, 10″ x 6″, Item No: EP 14-B | Priority Mail Large Video Box, 9¼″ x 6¼″ x 2″, Item O-1096-L.
Priority Mail Window Flat Rate Envelope, 10″ x 5″, Item EP 14-H. |
Priority Mail Legal Flat Rate Envelope, 15″ x 9½″, Item EP 14-L. |
Priority Mail Padded Flat Rate Envelope, 12½″ x 9½″, Item EP 14-PE. |

* * * * *

232.7 Extra Services

232.74 Registered Mail Service

[Revise 232.74 as follows:]

Registered Mail service is available (for an additional fee) only for the following Priority Mail International items:

a. Flat Rate Envelopes listed in 232.2, (except for the Priority Mail Padded Flat Rate Envelope), including free matter for the blind items.

b. Small Flat Rate Boxes listed in 232.2, including free matter for the blind items.

233 Prices and Postage Payment Methods

* * * * *

233.2 Prices and Postage Payment Methods

* * * * *

233.22 Permit Imprint

* * * * *

233.222 Permit Imprint—Commercial Base Prices

[Revise 233.222 as follows:]

Priority Mail International commercial base postage prices are 5 percent below retail prices for all postage paid with a permit imprint and using USPS-produced Global Shipping Software (GSS). The commercial base price applies only to the postage portion of Priority Mail International prices. In addition, customers must meet the following requirements:

a. Use USPS-produced Global Shipping Software (GSS). (To request information about GSS, send an e-mail to GSSHelp@usps.gov.)

b. Pay for postage with a permit imprint through an advance deposit account.

c. Meet manifesting and permit imprint requirements under IMM 152.4 and DMM 604 and the manifesting requirements under DMM 705.

Note: When using GSS, no extra services such as insurance are available.

* * * * *

233.23 Online Postage Payment Method

233.231 Online Prices

[Revise 233.231 as follows:]

For selected destination countries, Priority Mail International items receive a 5 percent discount below retail prices for the following online shipping methods:

a. Click-N-Ship service.

b. An authorized PC Postage vendor.

The commercial base price is automatically applied to each shipment. The discount applies only to the postage portion of the Priority Mail International price. It does not apply to any other charges or fees, such as Pickup on Demand service, insurance fees, or shipments made under a customized agreement.

* * * * *

3 Extra Services

* * * * *

330 Registered Mail

* * * * *

332 Availability

* * * Registered Mail service is available for the following types of mail:

* * * * *

[Revise items 332a and b as follows:]

a. Flat Rate Envelopes listed in 232.2, (except for the Priority Mail Padded Flat Rate Envelope), including free matter for the blind items.

b. Small Flat Rate Boxes listed in 232.2, including free matter for the blind items.

* * * * *

Country Price Groups and Weight Limit

[Revise the Country Price Groups and Weight Limits for the following countries:]

Country | Global express guaranteed: Price group | Global express guaranteed: Max. wt. (lbs.) | Express mail international: Price group | Express mail international: Max. wt. (lbs.) | Priority mail international ¹: Price group | Priority mail international ¹: Max. wt. (lbs.) | First-class mail international: Price group | First-class mail international: Max. wt.² (ozs./lbs.)
* * * * * * * | Brazil | 8 | 70 | 15 | 66 | 15 | 66 | 9 | 3.5/4
* * * * * * *
China | 6 | 70 | 14 | 66 | 14 | 66 | 3 | 3.5/4
* * * * * * *
France | 3 | 70 | 13 | 66 | 13 | 66 | 5 | 3.5/4
* * * * * * *
Germany | 3 | 70 | 16 | 66 | 16 | 70 | 5 | 3.5/4
* * * * * * *
Great Britain and Northern Ireland | 3 | 70 | 11 | 66 | 11 | 66 | 5 | 3.5/4
* * * * * * *
Japan | 3 | 70 | 12 | 66 | 12 | 66 | 3 | 3.5/4
* * * * * * *
Netherlands | 3 | 70 | 17 | 66 | 17 | 44 | 5 | 3.5/4
* * * * * * *

* * * * *

Individual Country Listings

* * * * *

Global Express Guaranteed (210)

[For each country for which a Global Express Guaranteed price table is provided, replace the Global Express Guaranteed price table with the appropriate Price Group table based on the prices below:]

BILLING CODE P

BILLING CODE C

* * * * *

Express Mail International (220)

[Revise the following EMI price groups for the following countries.]

Country | Price group
Great Britain & Northern Ireland | 11
Japan | 12
France | 13
China | 14
Brazil | 15
Germany | 16
Netherlands | 17

* * * * *

[For each country for which an Express Mail International price table is provided, replace the Express Mail International price table with the appropriate Price Group table based on the prices below:]

[Insert Express Mail International Price Table here.]

Express Mail International—Flat Rate (223.3)

[For each country that offers Express Mail International Flat Rate service, revise the Flat Rate section as follows:]

[For all countries except Canada:]

Flat-Rate Envelope: $29.95.

[For Canada:]

Flat-Rate Envelope: $26.95.

Insurance (222.71)

Available for Express Mail International merchandise shipments only.

[For each country that offers Express Mail International merchandise insurance, replace the fees to read as follows up to the maximum amount available for each country:]

Insured amount not over | Fee | Insured amount not over | Fee
$100 | No Fee | For insurance coverage above $2,000, add $1.45 for each $500 or fraction thereof, up to a maximum of $5,000 per shipment.
200 | $0.80
500 | 2.25
1,000 | 3.70
1,500 | 5.15
2,000 | 6.60 | $5,000 max | $15.30

* * * * *

[For each country that offers Express Mail International service, delete the heading “Return Receipt Service (222.72)” and all associated text in its entirety.]

* * * * *

Priority Mail International (230)

[Revise PMI price groups for the following countries.]

Country | Price group
Great Britain & Northern Ireland | 11
Japan | 12
France | 13
China | 14
Brazil | 15
Germany | 16
Netherlands | 17

[For each country, for which a Priority Mail International price table is provided, replace the Priority Mail International price table with the appropriate Price Group table based on the prices below:]

[Insert Priority Mail International Price Table here.]

Priority Mail International—Flat Rate (232.2)

[For each country that offers Priority Mail International Flat Rate service, revise the lines of text for the Flat Rate envelope and Flat Rate boxes as follows:]

[For all countries except Canada and Mexico:]

Flat-Rate Envelope or Small Flat-Rate Box: $13.95.

* * * * *

Flat-Rate Boxes: Medium—$45.50; Large—$58.50.

* * * * *

[For Canada and Mexico:]

Flat-Rate Envelope or Small Flat-Rate Box: $11.95.

* * * * *

Flat-Rate Boxes: Medium—$27.95; Large—$35.50.

* * * * *

[Insert new 232.82 (which replaces current 323) as follows. In addition, for each country that offers Priority Mail International parcel insurance, replace the fees to read as follows up to the maximum amount available for each country. For those countries that do not offer Priority Mail International insurance, insert “NOT Available” after the title:]

Insurance 232.82

Available for Priority Mail International merchandise parcels only (see 323.72 for markings).

Insured amount not over | Fee | Insured amount not over | Fee
$50 | $2.30 |  |
100 | 3.40 | Add $1.10 for each additional $100 or fraction of insurance coverage.
200 | 4.50
300 | 5.60
400 | 6.70 |  |
500 | 7.80 | $5,000 max | $57.30

First-Class Mail International

* * * * *

Airmail M-Bags (260)—Direct Sack to One Addressee

[For each country listing that offers Airmail M-bags, replace the prices with the prices from the following table based on their appropriate price group:]

Price group | Weight not over 11 pounds | Additional per pound
1 | $28.60 | $2.60
2 | 29.70 | 2.70
3 | 59.95 | 5.45
4 | 48.40 | 4.40
5 | 37.95 | 3.45
6 | 59.40 | 5.40
7 | 48.95 | 4.45
8 | 48.95 | 4.45
9 | 46.20 | 4.20

* * * * *

Extra Services

* * * * *

[For each country listing that carries Priority Mail International Insurance (323) under the Extra Services section, delete the heading, associated text, and insurance table in its entirety. This section has been moved to 232.82 of each ICL where applicable.]

* * * * *

International Postal Money Order (371)

[For each country that offers International Postal Money Orders, revise the fee as follows. In addition, for those countries that offer International Postal Money Orders, add the following new text directly below the line that indicates the maximum amount available: “Money Order Inquiry Fee: $5.40”.]

Fee: $4.25.

Money Order Inquiry Fee: $5.40.

* * * * *

We will publish an appropriate amendment to 39 CFR part 20 to reflect these changes.

Neva R. Watson,
Attorney, Legislative.

BILLING CODE P

[FR Doc. 2010-28118 Filed 11-10-10; 8:45 am]

BILLING CODE C